DEPARTMENT OF THE INTERIOR

National Park Service

National Register of Historic Places; Notification of Pending Nominations

Nominations for the following properties being considered for listing in the National Register were received by the National Park Service before August 4, 2001. Pursuant to section 60.13 of 36 CFR part 60 written comments concerning the significance of these properties under the National Register criteria for evaluation may be forwarded to the National Register, National Park Service, 1849 C St. NW, NC400, Washington, DC 20240. Written comments should be submitted by October 17, 2001.

Carol D. Shull,
Keeper of the National Register of Historic Places.

ALASKA

Fairbanks North Star Borough—Census Area

Illinois Street Historic District, 300-700 Illinois St., Fairbanks, 01000966

Haines Borough—Census Area

Anway, Charlie, Cabin, Mile 1.5 Haines Hwy., Haines, 01000967

CALIFORNIA

Plumas County

Red Dog Townsite, Address Restricted, Nevada City, 01000968

COLORADO

Boulder County

Boulder County Poor Farm, Address Restricted, Boulder, 01000969

Larimer County

Livermore Hotel and General Store, 2160 Red Feather Lakes Rd., Livermore, 01000970

GEORGIA

Fulton County

Inman Park Historic District (Boundary Increase and Decrease), Roughly bounded by Lake, Hurt, and DeKalb Aves., and Krog St., Atlanta, 01000973

Whittier Mills Historic District, Roughly the jct. of Bolton Rd. and Parrot Ave., approx. 7 mi. NW of central business district of Atlanta, Atlanta, 01000972

McIntosh County

West Darien Historic District, Bounded by 8th St., US 17, Darien River, and Cathead Creek, Darien, 01000975

Newton County

Porterdayle Historic District, Roughly the city limits of Porterdale north of Elm St., Porterdale, 01000974

Troup County

Lagrange Commercial Historic District, (Georgia County Courthouses TR) Main St.—Ridley Ave., Bull St.—Church St., Broad and Greenville Sts., Vernon Rd.—LaFayette Pkwy, Haralson St., LaGrange, 01000971

IDAHO

Ada County

Ninth Street Bridge, (Metal Truss Highway Bridges of Idaho MPS) E of new 9th Street bridge, over Boise R., Boise, 01000980

Idaho County

Riggins Motel, 615 S ID 95, Riggins, 01000979

ILLINOIS

Vermilion County

Fischer Theater, 158-164 N. Vermillion St., Danville, 01000978

INDIANA

Delaware County

Wilson Junior High School, (Indiana's Public Common and High Schools MPS) 2000 S. Franklin St., Muncie, 01000992

Hamilton County

Catherine Street Historic District, Roughly bounded by Harrison, Clinton, west side of 9th and east side of 10th, Noblesville, 01000988

South 9th Street Historic District, Roughly bounded by Maple, Division, 10th, and the west side of 9th St., Noblesville, 01000982

Johnson County

Furnas Mill Bridge, Pisgah Rd. over Sugar Creek—Atterbury Fish and Wildlife Area, Edinburgh, 01000985

Lagrange County

St. James Memorial Chapel, IN 9, just S of Cty Rd. 600 N., Howe, 01000989

Marion County

Jamieson—Bennett House, 8452 Green Braces North Dr., Indianapolis, 01000984

Marshall County

Argos Downtown Historic District, W side of Michigan St, bet. Smith and Williams, E side bet. Smith and Walnut, Argos, 01000991

Montgomery County

Bethel AME Church of Crawfordsville, 213 W. North St., Crawfordsville, 01000990

Morgan County

Elm Spring Farm, 1 mi. N of Bain Rd. on Goose Creek Rd., Martinsville, 01000981

Lake Ditch Bridge, Jct. of Lake Ditch and Lake Ditch Rd., Monrovia, 01000986

Orange County

Dixie Garage, IN 56 and Sinclair Ave., West Baden Springs, 01000983

Oxford Hotel, In 56, West Baden Springs, 01000977

St. Joseph County

South Bend Brewing Association, 1636 Lincolnway West, South Bend, 01000987

South Bend Remedy Company Building, 501 W. Colfax, South Bend, 01000993

Tippecanoe County

Jefferson Historic District, Roughly bounded by 9th, Erie, Elizabeth, and Ferry Sts., Lafayette, 01000976

IOWA

Linn County

Redmond Park—Grande Avenue Historic District, (Cedar Rapids, Iowa MPS) Roughly bounded by US 151, Nineteenth St., and Washington Ave., Cedar Rapids, 01000994

LOUISIANA

Bienville Parish

Conly Site, Address Restricted, Ringgold, 01000995

NEW YORK

Livingston County

Caledonia House Hotel, 3141 State St., Caledonia, 01000997

Schuyler County

First Baptist Church of Watkins Glen, Fifth St. and Porter St., Watkins Glen, 01000996

SOUTH DAKOTA

Brule County

Chamberlain Bridge, (Historic Bridges in South Dakota MPS) I-90 Loop over Missouri R, Chamberlain, 01000999

Clay County

Linden House, 509 Linden Ave., Vermillion, 01001001

Lincoln County

Rudolph—Parke House, 412 E. First St., Canton, 01001000

TEXAS

Dallas County

Strain Farm—Strain, W.A., House (Boundary Increase), 400 Lancaster-Hutchins Rd., Lancaster, 01001002

[FR Doc. 01-24631 Filed 10-1-01; 8:45 am]

BILLING CODE 4310-70-P